DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of April 1, 2013 through April 5, 2013.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) the public agency has acquired from a foreign country services like or directly competitive with services which are supplied by such agency; and

(3) the acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) The workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) A summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) The 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
82,411 | FPL Food, LLC | Augusta, GA | February 4, 2012.
82,482 | ArcelorMittal Georgetown, SC, Arcelormittal, USA | Georgetown, SC | February 19, 2012.
82,492 | Creation Technologies Kentucky, Inc., Manpower and Kelly Services | Lexington, KY | February 21, 2012.

The following certifications have been issued. The requirements of Section 222(a)(2)(B) (shift in production or services) of the Trade Act have been met.

TA-W No. | Subject firm | Location | Impact date
82,221 | Plexus Corporation, Neenah Operations, Kelly Services, Inc | Neenah, WI | December 5, 2011.
82,344 | The Wm. Powell Company, Foundry Division | Cincinnati, OH | January 3, 2012.
82,448 | Parker School Uniforms, LLC, Robert Half International, Inc. and Link Staffing Services | Houston, TX | February 11, 2012.
82,456 | NXP Semiconductors, Sales Support Team, Randstad General Partner LLC and Targetcw | Cary, NC | February 12, 2012.
82,486 | L & W Supply, Inc., USG Corporation, Accounts Payable & Receivable Division | Pico Rivera, CA | February 20, 2012.
82,506 | Experian, Experian Healthcare, (etc.) Tapfin, Manpower and Experis | Austin, TX | February 26, 2012.
82,506A | Experian, Information Technology & Operations, (etc.), Tapfin, Manpower and Experis | Allen, TX | February 26, 2012.
82,506B | Experian, Information Technology & Operations, (etc.), Tapfin, Manpower and Experis | Allen, TX | February 26, 2012.
82,506C | Experian, Business Information Services, (etc.), Tapfin, Manpower and Experis | Atlanta, GA | February 26, 2012.
82,506D | Experian, QAS (Experian Marketing Services), etc., Tapfin, Manpower and Experis | Boston, MA | February 26, 2012.
82,506E | Experian, Decision Analytics, (formerly Baker Hill), Tapfin, Manpower and Experis | Carmel, IN | February 26, 2012.
82,506F | Experian, Experian U.S. Headquarters: (etc.), Tapfin, Manpower and Experis | Costa Mesa, CA | February 26, 2012.
82,506G | Experian, Experian Consumer Direct (etc.), Tapfin, Manpower and Experis | Costa Mesa, CA | February 26, 2012.
82,506H | Experian, Marketing Services, Tapfin, Manpower and Experis | El Segundo, CA | February 26, 2012.
82,506I | Experian, Marketswitch (Decision Analytics), Tapfin, Manpower and Experis | Herndon, VA | February 26, 2012.
82,506J | Experian, Experian Healthcare, (etc.), Tapfin, Manpower and Experis | Maple Groove, MN | February 26, 2012.
82,506K | Experian, Marketing Services, Tapfin, Manpower and Experis | New York, NY | February 26, 2012.
82,506L | Experian, Global Product & Technology Services, etc., Tapfin, Manpower and Experis | New York, NY | February 26, 2012.
82,506M | Experian, Experian Marketing Services, Tapfin, Manpower and Experis | New York, NY | February 26, 2012.
82,506N | Experian, Credit Services, Marketing Services, Tapfin, Manpower and Experis | Parsippany, NJ | February 26, 2012.
82,506O | Experian, Experian Healthcare, (etc.), Tapfin, Manpower and Experis | Plymouth, MA | February 26, 2012.
82,506P | Experian, Experian Healthcare, (etc.), Tapfin, Manpower and Experis | San Antonio, TX | February 26, 2012.
82,506Q | Experian, Fraud Solutions, Decision Analytics, (etc.), Tapfin, Manpower and Experis | San Diego, CA | February 26, 2012.
82,506R | Experian, Credit Services, Experian Automotive, (etc.), Tapfin, Manpower and Experis | Schaumburg, IL | February 26, 2012.
82,508 | JP Morgan Chase Bank, NA, Commercial Banking Loan Operation | Louisville, KY | February 27, 2012.
82,536 | IBM Corporation, Systems Operations Division | Boulder, CO | March 5, 2012.
82,537 | Monta Vista Software, LLC, Cavium, Inc | Arlington, TX | March 5, 2012.
82,537A | Monta Vista Software, LLC, Cavium, Inc | San Jose, CA | March 5, 2012.
82,537B | Monta Vista Software, LLC, Cavium, Inc | Tempe, AZ | March 5, 2012.
82,557 | Ericsson Inc., Wireline Network Ops Building Maintenance (etc.), J.M. Neil and Associates | Overland Park, KS | March 12, 2012.
82,557A | Ericsson Inc., Network Platforms Group | Overland Park, KS | March 12, 2012.
82,590 | Cinram Wireless LLC, Cinram International/Cinram U.S. Holdings, Onin Staffing, etc | Fort Worth, TX | March 12, 2012.
82,617 | YP Southeast Advertising & Publishing LLC, YP Holdings LLC, Insight Global, Inc., Collabera, Epitec, etc | Tucker, GA | March 27, 2012.

The following certifications have been issued. The requirements of Section 222(c) (supplier to a firm whose workers are certified eligible to apply for TAA) of the Trade Act have been met.

TA-W No. | Subject firm | Location | Impact date
82,373 | Gerdau Ameristeel US Inc., BARR, Rumpca, G4S, First Class Mill, North American Refractory, etc | Saint Paul, MN | January 25, 2012.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
82,491 | Allstate Insurance Company, Customer Enterprise Services, Policy Processing Service, Kelly Services | Roanoke, VA

I hereby certify that the aforementioned determinations were issued during the period of April 1, 2013 through April 5, 2013. These determinations are available on the Department's Web site tradeact/taa/taa_search_form.cfm under the searchable listing of determinations or by calling the Office of Trade Adjustment Assistance toll free at 888-365-6822.

Dated: April 9, 2013.
Elliott S. Kushner,
Certifying Officer, Office of Trade Adjustment Assistance.

[FR Doc. 2013-10111 Filed 4-29-13; 8:45 am]

BILLING CODE 4510-FN-P